DEPARTMENT OF ENERGY

Federal Energy Regulatory Commission

[Docket No. CP15-34-000]

AMP Gathering I, LP; Notice of Petition for Declaratory Order

Take notice that on December 15, 2014, pursuant to section 207(a)(2) of the Federal Energy Regulatory Commission's (Commission) Rules of Practice and Procedure, 18 CFR 385.207(a)(2) (2014), AMP Gathering I, LP (Align Midstream) submitted a petition for declaratory order seeking a ruling that certain natural gas pipeline and appurtenant facilities (Carthage Gathering Facilities) to be acquired by Align Midstream from Southern Natural Gas Company, L.L.C. (Southern) will perform a gathering function upon their abandonment and sale, and therefore will be exempt from the Commission's jurisdiction pursuant to section l(b) of the Natural Gas Act, 15 U.S.C. 717, et seq.¹

¹ Moreover, in Docket No. CP15-30-000, Southern filed a request for authorization to abandon, by sale to Align Midstream, certain facilities. Notice of Application, issued December 18, 2014.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Petitioner.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on January 14, 2015

Dated: December 18, 2014.
Kimberly D. Bose,
Secretary.

[FR Doc. 2014-30422 Filed 12-29-14; 8:45 am]

BILLING CODE 6717-01-P